DEPARTMENT OF HEALTH AND HUMAN SERVICES

Centers for Disease Control and Prevention

[Program Announcement 01121]

Redesigning Cities and Suburbs for Public Health; Notice of Availability of Funds

A. Purpose

The Centers for Disease Control and Prevention (CDC) announces the availability of fiscal year (FY) 2001 funds for a cooperative agreement program for “Redesigning Cities and Suburbs for Public Health.” This program addresses the “Healthy People 2010” focus areas of Physical Activity and Fitness; Public Health Infrastructure, Environmental Health and Respiratory Diseases.

The purpose of the program is to create healthier communities by better design and use of our built and natural environment and develop policies and practices surrounding urbanization, transportation, business location, employment, education, recreation, and other related factors that increase physical activity and are conducive to improved health through prevention and promotion.

B. Eligible Applicants

Assistance will be provided only to an organization that is a private nonprofit, non-governmental health, environmental or transportation entity. The organization must have local/state/or regional membership constituencies; and have the capacity and experience to work on major current public policy regarding metropolitan area urban design.

Limited competition is justified because only private nonprofit, non-governmental, health, environmental or transportation entities have conducted research, analysis, and provided regional recommendations in this area from a public health prospective. To determine gaps in public health related to land and water use and its impact on healthier communities, applicants should propose activities that address both metropolitan and rural areas within a region to address partnership building, integration of public concerns, development of evaluation measures, and for case study comparison and evaluation.

Note: Title 2 of the United States Code, Chapter 26, section 1611 states that an organization described in section 501(c)(4) of the Internal Revenue Code of 1986 that engages in lobbying activities is not eligible to receive Federal funds constituting an award, grant, cooperative agreement, contract, loan, or any other form.

C. Availability of Funds

Approximately $100,000 is available in FY 2001 to fund one award. The award is expected to begin on or about August 15, 2001, and will be made for a 12-month budget period within a project period of up to five years. Funding estimates may change.

A. Program Requirements

In conducting activities to achieve the purposes of this program, the recipient will be responsible for the activities under 1. Recipient Activities and CDC will be responsible for the activities under 2. CDC Activities.

1. Recipient Activities

a. Facilitate partnerships between public health practitioners and planning agencies and groups.

b. Develop materials that describe the process (who, what, how, etc.) of integrating public

c. Health concerns (suitable for local or state level efforts), including physical activity for transportation and recreation, childhood obesity, and asthma into (a) planning documents and (b) handbooks, guidelines, codes of professional organizations and academic training materials. Serve as workshop presenters and/or discussion leaders.

d. Develop process evaluation measures that can be used to assess progress toward these goals.

e. Develop materials and curriculum, organize and be carry out training workshops and professional presentations for city planners, developers, educators, state and local policymakers, health officials, and other interested parties.

f. Identify state and local policies that promote or restrict physical activity. This activity may focus on specific subsets of the population.

g. Identify or develop case studies of model community plans that include designs to promote walking and bicycling for transportation and recreation.

h. Research, identify examples, and develop materials promoting the understanding and use of law (including statutes, ordinances, regulations, and administrative rules) as a tool for redesigning cities and suburbs for the public's health.

2. CDC Activities

a. Provide consultation and technical assistance in the planning and evaluation of program activities.

b. Collaborate in development of training materials and curriculum for training workshops. May provide experts with subject matter and scientific expertise to serve as workshop presenters and/or discussion leaders.

E. Content

Use the information in the Program Requirements, Other Requirements, and Evaluation Criteria sections to develop the application content. Your application will be evaluated on the criteria listed, so it is important to follow them in laying out your program plan. The narrative, excluding budget and appendices, should not exceed 35 pages. Pages should be clearly numbered and a complete index to the application and any appendices should be included. The original and each copy of the application must be submitted unstapled and unbound. All materials must be typewritten, double-spaced, with unreduced font on 8½″ by 11″ paper, with at least 1″ margins, headers and footers, and printed on one side only. Application should be organized in the following sections.

1. Executive Summary

Provide a clear, concise, and objectively written statement of the major objectives and components of proposed activities, proposed time frame, and evaluation plan.

2. Existing Resources and Needs Assessment

Describe the documented need for the proposed activities and current activities that provide relevant experience and expertise to perform the proposed activities.

3. Collaborative Relationships

Describe collaborative relationships with other agencies and organizations that will be involved in the proposed activities.

4. Operational and Evaluation Plan

Describe the specific outcome and process objectives for each proposed project with deliverables clearly identified, the major steps required to achieve the objectives, and a projected timetable for completion that displays dates for the accomplishment of specific proposed activities. Describe how achievement of outcome and process objectives, and program effectiveness will be evaluated.

5. Management and Staffing Plan

Describe how the program will be effectively managed including:

a. Management structure including the lines of authority and plans for fiscal control.

b. The staff positions responsible for implementation of the program.

c. Qualifications and experience of the designated staff.

6. Budget and Justification

Provide a detailed budget request and line item justification of all proposed operating expenses.

F. Submission and Deadline

Submit the original and two copies of PHS 5161-1 (OMB Number 0937-0189). Forms are in the application kit and at the following Internet address: http://forms.psc.gov/

On or before July 14, 2001 submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks shall not be acceptable as proof of timely mailing).

Late: Applications which do not meet the criteria in 1. or 2. above will be returned to the applicant.

G. Evaluation Criteria

An independent review group appointed by CDC will evaluate the application according to the following criteria.

1. Resources and Needs Assessment: (25 points)

The relevance of the needs assessment and extent to which the applicant demonstrates that current activities provide regional experience and expertise in community and transportation design (such as land and water use, pedestrian activity and the built environment) that incorporate public health measures in the planning process. The proposed projects.

2. Collaboration: (15 points)

The extent to which the applicant provides evidence of collaborative relationships with prevention research centers, state and local health agencies, local and state government and planning agencies relevant to successful completion of the proposed project(s).

3. Proposed Operational and Evaluation Plan: (35 points)

The extent to which the applicant clearly identifies the specific outcome and process objectives for the proposed projects, deliverables, and the major steps required to meet the objectives; and proposes an evaluation plan that is likely to provide meaningful information about the achievement of the projects.

4. Proposed Implementation Schedule: (10 points)

The extent to which the projected timetable for completion of tasks and for meeting objectives is reasonable and realistic.

5. Project Management and Staffing Plan: (15 points)

The extent to which the applicant demonstrates management structure and staff positions with clear lines of authority and plans for fiscal control, and that designated staff have appropriate qualifications and experience.

6. Budget: (Not Scored)

The extent to which the applicant provides a detailed budget and justification consistent with the proposed program objectives and activities.

H. Other Requirements

Provide CDC with original plus two copies of

1. annual progress reports;

2. financial status report, no more than 90 days after the end of the budget period; and

3. final financial and performance reports, no more than 90 days after the end of the project period.

Send all reports to the Grants Management Specialist identified in the “Where to Obtain Additional Information” section of this announcement.

The following additional requirements are applicable to this program. For a complete description of each, see Attachment I in the application kit.

AR-9 Paperwork Reduction Act Requirements

AR-10 Smoke Free Workplace Requirements

AR-11 Healthy People 2000

AR-12 Lobbying Restrictions

AR-14 Accounting System

AR-15 Proof of Non-Profit Status

I. Authority and Catalog of Federal Domestic

This program is authorized under section 301 (a), 311(b) and (C) and 317(k)(2) of the Public Health Service Act, [42 U.S.C. section 241(a), 243(b) and (c) and 247(k)(2)], as amended. The Catalog of Federal Domestic Assistance number is 93.283.

J. Where To Obtain Additional Information

This and other CDC announcements can be found on the CDC home page Internet address: www.cdc.gov Click on “Funding” then “Grants and Cooperative Agreements”. To obtain business management technical assistance, contact: Jesse Robertson, Grants Management Specialist, Grants Management Branch, Procurement and Grants Office, Announcement 01121, Centers for Disease Control and Prevention (CDC), 2920 Brandywine Road, Room 3000, Atlanta, Georgia 30341-4146, Telephone Number (770) 488-2747, Email address: jrobertson@cdc.gov.

For program technical assistance, contact Thomas Schmid, PhD, CDC/National Center for Chronic Disease, Prevention and Health Promotion, Division of Nutrition and Physical Activity, 4770 Buford Highway NE, Mailstop K46, Atlanta, GA 30341-3717, Telephone Number (770) 488-5471, Email address: TSchmid@cdc.gov.

Dated: May 16, 2001.
Henry S. Cassell, III,
Acting Director, Procurement and Grants Office, Centers for Disease Control and Prevention (CDC).

[FR Doc. 01-12811 Filed 5-21-01; 8:45 am]

BILLING CODE 4163-18-P